SECURITIES AND EXCHANGE COMMISSION

Proposed Collection; Comment Request

Upon Written Request, Copies Available From: Securities and Exchange Commission, Office of filings and Information Services, Washington, DC 20549

Extension

Rule 17a-5(c); SEC File No. 270-199; OMB Control No. 3235-0199.

Rule 17a-7; SEC File No. 270-147; OMB Control No. 3235-0131.

Notice is hereby given that pursuant to the Paperwork Reduction Act of 1995 (44 U.S.C. 3501 et seq.), the Securities and Exchange Commission (“Commission”) is soliciting comments on the collections of information summarized below. The Commission plans to submit these existing collections of information to the Office of Management and Budget for extension and approval.

Rule 17a-5(c) under the Securities Exchange Act of 1934 requires certain broker-dealers who carry customer accounts to provide statements of financial condition to their customers. It is estimated that approximately 659 broker and dealer respondents with approximately 97,600,000 customer accounts incur an average burden of 542,222 hours per year to comply with this rule.

Rule 17a-5(c) does not contain record retention requirements. Compliance with the rule is mandatory. Responses are not confidential.

Rule 17a-7 under the Securities Exchange Act of 1034 requires non-resident brokers or dealers registered or applying for registration pursuant to Section 15 of the Exchange Act to maintain—in the United States—complete and current copies of books and records required to be maintained under any rule adopted under the Securities Exchange Act of 1934. Alternatively, Rule 17a-7 provides that the non-resident broker or dealer may sign a written undertaking to furnish the requisite books and records to the Commission upon demand.

There are approximately 72 non-resident brokers and dealers. Based on the Commission's experience in this area, it is estimated that the average amount of time necessary to preserve the books and records required by Rule 17a-7 is one hour per year. Accordingly, the total burden is 72 hours per year.

An agency may not conduct or sponsor, and a person is not required to respond to, a collection of information unless it displays a currently valid control number.

Written comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Direct your written comments to Michael E. Bartell, Associate Executive Director, Office of Information Technology, Securities and Exchange Commission, 450 5th Street, NW., Washington, DC 20549.

Dated: June 4, 2001.
Margaret H. McFarland,
Deputy Secretary.

[FR Doc. 01-14458 Filed 6-7-01; 8:45 am]

BILLING CODE 8010-01-M